DEPARTMENT OF ENERGY

Notice of Intent To Prepare an Environmental Impact Statement for Depleted Uranium Hexafluoride Conversion Facilities

AGENCY: Department of Energy.

ACTION: Notice of intent.

SUMMARY: The U.S. Department of Energy (DOE) announces its intention to prepare an Environmental Impact Statement (EIS) for a proposal to construct, operate, maintain, and decontaminate and decommission two depleted uranium hexafluoride (DUF 6) conversion facilities, at Portsmouth, Ohio, and Paducah, Kentucky. DOE would use the proposed facilities to convert its inventory of DUF6 to a more stable chemical form suitable for storage, beneficial use, or disposal. Approximately 700,000 metric tons of DUF6 in about 57,700 cylinders are stored at Portsmouth and Paducah, and at an Oak Ridge, Tennessee site. The EIS will address potential environmental impacts of the construction, operation, maintenance, and decontamination and decommissioning of the conversion facilities. DOE will hold public scoping meetings near the three involved sites.

DATES: DOE invites public comments on the proposed scope of the DUF6 conversion facilities EIS. To ensure consideration, comments must be postmarked by November 26, 2001. Late comments will be considered to the extent practicable. Three public scoping meetings will be held near Portsmouth, Ohio; Paducah, Kentucky; and Oak Ridge, Tennessee. The scoping meetings will provide the public with an opportunity to present comments on the scope of the EIS, and to ask questions and discuss concerns with DOE officials regarding the EIS. The location, date, and time for these public scoping meetings are as follows:

Portsmouth, Ohio: Thursday, November 1, 2001, from 6-9 p.m. at the Vern Riffe Pike County Vocational School, 175 Beaver Creek Road—off State Route 32, Piketon, Ohio 45661.

Paducah, Kentucky: Tuesday, November 6, 2001, from 6-9 p.m. at the Information Age Park Resource Center, 2000 McCracken Blvd., Paducah, Kentucky 42001.

Oak Ridge, Tennessee: Thursday, November 8, 2001, from 6-9 p.m. at the Pollard Auditorium, Oak Ridge Institute for Science and Education, 210 Badger Avenue, Oak Ridge, Tennessee 37831.

ADDRESSES: Please direct comments or suggestions on the scope of the EIS and questions concerning the proposed project to: Kevin Shaw, U.S. Department of Energy, Office of Environmental Management, Office of Site Closure—Oak Ridge Office (EM-32), 19901 Germantown Road, Germantown, Maryland 20874, fax (301) 903-3479, e-mail DUF6.Comments@em.doe.gov (please use “NOI Comments” for the subject).

FOR FURTHER INFORMATION CONTACT: For information regarding the proposed project, contact Kevin Shaw, as above. For general information on the DOE NEPA process, please contact Carol M. Borgstrom, Director, Office of NEPA Policy and Compliance (EH-42), U.S. Department of Energy, 1000 Independence Avenue, SW., Washington, DC 20585-0119, telephone (202) 586-4600 or leave a message at (800) 472-2756.

SUPPLEMENTARY INFORMATION:

Background

Depleted UF6 results from the process of making uranium suitable for use as fuel in nuclear reactors or for military applications. The use of uranium in these applications requires increasing the proportion of the uranium-235 isotope found in natural uranium, which is approximately 0.7 percent (by weight), through an isotopic separation process. A U-235 “'enrichment”' process called gaseous diffusion has historically been used in the United States. The gaseous diffusion process uses uranium in the form of UF6, primarily because UF6 can conveniently be used in the gas form for processing, in the liquid form for filling or emptying containers, and in the solid form for storage. Solid UF6 is a white, dense, crystalline material that resembles rock salt.

Over the last five decades, large quantities of uranium were enriched using gaseous diffusion. “Depleted” UF6 (DUF6) is a product of the process and was stored at the three uranium enrichment sites located at Paducah, Kentucky; Portsmouth, Ohio; and the East Tennessee Technology Park (ETTP—formerly known as the K-25 Site) in Oak Ridge, Tennessee. Depleted uranium is uranium that, through the enrichment process, has been stripped of a portion of the uranium-235 that it once contained so that it has a lower uranium-235 proportion than the 0.7 weight-percent found in nature. The uranium in most of DOE's DUF6 has between 0.2 to 0.4 weight-percent uranium-235.

DOE has management responsibility for approximately 700,000 metric tons (MT) of DUF6 contained in about 57,700 steel cylinders at the Portsmouth, Paducah, and ETTP sites, where it has stored such material since the 1950s. The characteristics of UF6 pose potential health and environmental risks. DUF6 in cylinders emits low levels of gamma and neutron radiation. Also, when released to the atmosphere, DUF6 reacts with water vapor in the air to form hydrogen fluoride (HF) and uranyl fluoride (UO2F2), both chemically toxic substances. In light of such characteristics, DOE stores DUF6 in a manner designed to minimize the risk to workers, the public, and the environment.

In October 1992, the Ohio Environmental Protection Agency (OEPA) issued a Notice of Violation (NOV) alleging that DUF6 stored at the Portsmouth facility is subject to regulation under State hazardous waste laws applicable to the Portsmouth Gaseous Diffusion Plant. The NOV stated that OEPA had determined DUF6 to be a solid waste and that DOE had violated Ohio laws and regulations by not evaluating whether such waste was hazardous. DOE disagreed with this assessment, and, in February 1998, DOE and OEPA reached an agreement. This agreement sets aside the issue of whether the DUF6 is subject to Resource Conservation and Recovery Act regulation and institutes a negotiated management plan governing the storage of the Portsmouth DUF6. The agreement also requires DOE to continue its efforts to evaluate potential use or reuse of the material. The agreement expires in 2008.

In 1994, DOE began work on the Programmatic Environmental Impact Statement for Alternative Strategies for the Long-Term Management and Use of Depleted Uranium Hexafluoride (DUF6 PEIS). The DUF6 PEIS was completed in 1999 and identified conversion of DUF6 to another chemical form for use or long-term storage as part of a preferred management alternative. In the corresponding Record of Decision for the Long-Term Management and Use of Depleted Uranium Hexafluoride (ROD) (64 FR 43358, August 10, 1999), DOE decided to promptly convert the DUF6 inventory to depleted uranium oxide, depleted uranium metal, or a combination of both. The ROD further explained that depleted uranium oxide will be used as much as possible, and the remaining depleted uranium oxide will be stored for potential future uses or disposal, as necessary. In addition, according to the ROD, conversion to depleted uranium metal will occur only if uses are available.

During the time that DOE was analyzing its long-term strategy for managing the DUF6 inventory, several other events occurred related to DUF6 management. In 1995, the Department began an aggressive program to better manage the DUF6 cylinders, known as the DUF6 Cylinder Project Management Plan. In part, this program responded to the Defense Nuclear Facilities Safety Board (DNFSB) Recommendation 95-1, Safety of Cylinders Containing Depleted Uranium. This program included more rigorous and frequent inspections, a multi-year program for painting and refurbishing of cylinders, and construction of concrete-pad cylinder yards. Implementation of the DUF6 Cylinder Project Management Plan has been successful, and, as a result, on December 16, 1999, the DNFSB closed out Recommendation 95-1.

In February 1999, DOE and the Tennessee Department of Environment and Conservation entered into a consent order which included a requirement for the performance of two environmentally beneficial projects: The implementation of a negotiated management plan governing the storage of the small inventory (relative to other sites) of all UF6 (depleted, low enriched, and natural) cylinders stored at the ETTP site, and the removal of the DUF6 from the ETTP site or the conversion of the material by December 31, 2009.

In July 1998, the President signed Public Law (P.L.) 105-204. This law directed the Secretary of Energy to prepare “'a plan to ensure that all amounts accrued on the books”' of the United States Enrichment Corporation (USEC) for the disposition of DUF6 would be used to commence construction of, not later than January 31, 2004, and to operate, an on-site facility at each of the gaseous diffusion plants at Paducah and Portsmouth, to treat and recycle DUF6 consistent with the National Environmental Policy Act (NEPA). DOE responded to P.L. 105-204 by issuing the Final Plan for the Conversion of Depleted Uranium Hexafluoride (referred to herein as the “'Conversion Plan”') in July 1999. The Conversion Plan describes DOE's intent to chemically process the DUF6 to create products that would present both a lower long-term storage hazard and provide a material that would be suitable for use or disposal.

DOE initiated the Conversion Plan with the announced availability of a draft Request for Proposals (RFP) on July 30, 1999, for a contractor to design, construct, and operate DUF6 conversion facilities at the Paducah and Portsmouth uranium enrichment plant sites. Based on comments received on the draft RFP, DOE revisited some of the assumptions about management of the DUF6 inventory made previously in the PEIS and ROD. For example, as documented in the Oak Ridge National Laboratory study, Assessment of Preferred Depleted Uranium Disposal Forms (ORNL/TM-2000/161, June 2000), four potential conversion forms (triuranium octoxide (U308), uranium dioxide (U02), uranium tetrafluoride (UF4), and uranium metal) were evaluated and found to be acceptable for near-surface disposal at low-level radioactive waste disposal sites such as those at DOE's Nevada Test Site and Envirocare of Utah, Inc. Therefore, the RFP was modified to allow for a wide range of potential conversion product forms and process technologies. However, any of the proposed conversion forms must have an assured environmentally acceptable path for final disposition.

On October 31, 2000, DOE issued a final RFP to procure a contractor to design, construct, and operate DUF6 conversion facilities at the Paducah and Portsmouth plant sites. Any conversion plants that result from this procurement would convert the DUF6 to a more stable chemical form that is suitable for either beneficial use or disposal. The selected contractor would design the conversion plants using the technology it proposes and construct the plants. The selected contractor also would operate the plants for a five-year period, which would include maintaining depleted uranium and product inventories, transporting all uranium hexafluoride storage cylinders in Tennessee to a conversion plant at Portsmouth, as appropriate, and transporting converted product for which there is no use to a disposal site. The selected contractor would also prepare excess material for disposal at an appropriate site.

DOE received five proposals in response to the DUF6 conversion RFP, and DOE anticipates that a contract will be awarded during the first quarter of fiscal year 2002. Since the site-specific NEPA process will not be completed prior to contract award, the contract shall be contingent on completion of the NEPA process and will be structured such that the NEPA process will be completed in advance of a go/no-go decision. (See NEPA Process below.) DOE initiated the NEPA review by issuing an Advance Notice of Intent to prepare an EIS for the DUF6 conversion facilities on May 7, 2001 (66 FR 23010).

Purpose and Need for Agency Action

DOE needs to convert its inventory of DUF6 to a more stable chemical form for storage, use, or disposal. This need follows directly from the decision presented in the August 1999 “Record of Decision for Long-Term Management and Use of Depleted Uranium Hexafluoride,” namely to begin conversion of the DUF6 inventory as soon as possible.

This EIS will assess the potential environmental impacts of constructing, operating, maintaining, and decontaminating and decommissioning DUF6 conversion facilities at the Portsmouth and Paducah sites, as well as other reasonable alternatives. The EIS will aid decision making on DUF6 conversion by evaluating the environmental impacts of the range of reasonable alternatives, as well as providing a means for public input into the decision making process. DOE is committed to ensuring that the public has ample opportunity to participate in this review.

Relation to the DUF6 PEIS

This EIS represents the second level of a tiered environmental review process being used to evaluate and implement the DUF6 management program. Tiering refers to the process of first addressing general (programmatic) matters in a PEIS followed by more narrowly focused (project level) environmental review that incorporates by reference the more general discussions. The DUF6 PEIS, issued in April 1999, was the first level of this tiered approach.

The DUF6 PEIS addressed the potential environmental impacts of broad strategy alternatives, including analyses of the impacts of: (1) Continued storage of DUF6 at DOE's current storage sites; (2) technologies for converting the DUF6 to depleted U3O8, UO2, or uranium metal; (3) long-term storage of depleted U3O8 and UO2 for subsequent use or disposal; (4) long-term storage of DUF6 in cylinders at a consolidated site; (5) use of depleted UO2 and uranium metal conversion products; (6) transportation of materials; and (7) disposal of depleted U3O8 and UO2 at generic disposal sites. The results of the PEIS analysis, as well as supporting documentation, will be incorporated into this EIS to the extent appropriate.

The ROD for the DUF6 PEIS declared DOE's decision to promptly convert the DUF6 inventory to a more stable chemical form. This tiered EIS will address specific issues associated with the implementation of the DUF6 PEIS ROD.

Preliminary Alternatives

Consistent with NEPA implementation requirements, this EIS will assess the range of reasonable alternatives regarding constructing, operating, maintaining, and decontaminating and decommissioning DUF6 conversion facilities. The following preliminary list of alternatives is subject to modification in response to comments received during the public scoping process.

Preferred Alternative: Under the preferred alternative, two conversion facilities would be built: one at the Paducah Gaseous Diffusion Plant site and another at the Portsmouth Gaseous Diffusion Plant site. The cylinders currently stored at the ETTP site near Oak Ridge, Tennessee, would be transported to Portsmouth for conversion. The conversion products (i.e., depleted uranium as well as fluorine components produced during the conversion process) would be stored, put to beneficial uses, or disposed of at an appropriate disposal facility. This alternative is consistent with the Conversion Plan, which DOE submitted to Congress in July 1999, in response to Public Law 105-204. Subalternatives to be considered for the preferred alternative include:

• Conversion technology processes identified in response to the final RFP for DUF6 conversion services, plus any other technologies that DOE believes must be considered.

• Local siting alternatives for building and operating conversion facilities within the Paducah and Portsmouth plant boundaries.

• Timing options, such as staggering the start of the construction and operation of the two conversion facilities.

One Conversion Plant Alternative: An alternative of building and operating only one conversion facility at either the Portsmouth or the Paducah site will be considered. This plant could differ in size or production capacity from the two proposed for Portsmouth and Paducah. Technology and local siting subalternatives will be considered as with the preferred alternative.

Use of Existing UF6 Conversion Capacity Alternative: DOE will consider using already-existing UF6 conversion capacity at commercial nuclear fuel fabrication facilities in lieu of constructing one or two new conversion plants. DOE is evaluating the feasibility of using existing conversion capacity, although no expression of interest has been received from such facilities.

No Action Alternative: Under the “no action” alternative, cylinder management activities (handling, inspection, monitoring, and maintenance) would continue the “status quo” at the three current storage sites indefinitely, consistent with the DUF6 Cylinder Project Management Plan and the consent orders, which include actions needed to meet safety and environmental requirements.

Where applicable under the alternatives listed above, transportation options, such as truck, rail, and barge, will be considered for shipping DUF6 cylinders to a conversion facility and conversion products to a storage or disposal facility. Also, for each technology alternative, alternatives for conversion products, including storage, use, and disposal at one or more disposal sites, will be considered. Further, DOE would appreciate comments regarding whether there are additional siting alternatives for one or more new conversion facilities that should be considered.

Identification of Environmental and Other Issues

DOE intends to address the following environmental issues when assessing the potential environmental impacts of the alternatives in this EIS. Additional issues may be identified as a result of the scoping process. DOE invites comment from the Federal agencies, Native American tribes, state and local governments, and the general public on these and any other issues that should be considered in the EIS:

• Potential impacts on health from DUF6 conversion activities, including potential impacts to workers and the public from exposure to radiation and chemicals during routine and accident conditions for the construction, operation, maintenance, and decontamination and decommissioning of DUF6 conversion facilities.

• Potential impacts to workers and the public from exposure to radiation and chemicals during routine and accident conditions for the transportation of DUF6 cylinders from ETTP to one of the conversion sites.

• Potential impacts to workers and the public from exposure to radiation and chemicals during routine and accident conditions for the transportation of conversion products that are not beneficially used to a low-level waste disposal facility.

• Potential impacts to surface water, ground water, and soil during construction activities and from emissions and water use during facility operations.

• Potential impacts on air quality from emissions and from noise during facility construction and operations.

• Potential cumulative impacts of the past, present, and reasonably foreseeable future actions (including impacts resulting from activities of the United States Enrichment Corporation).

• Potential impacts from facility construction on historically significant properties, if present, and on access to traditional use areas.

• Potential impacts from land requirements, potential incompatibilities, and disturbances.

• Potential impacts on local, regional, or national resources from materials and utilities required for construction and operation.

• Potential impacts on ecological resources, including threatened and endangered species, floodplains, and wetlands.

• Potential impacts on local and DOE-wide waste management capabilities.

• Potential impacts on local employment, income, population, housing, and public services from facility construction and operations, and environmental justice issues.

• Pollution prevention, waste minimization, and energy and water use reduction technologies to reduce the use of energy, water, and hazardous substances and to mitigate environmental impacts.

DOE received comments on the Advance Notice of Intent from the Tennessee Department of Environment and Conservation (TDEC) and the Ohio Environmental Protection Agency (OHEPA). TDEC commented that the EIS should provide an adequate platform for coordination of environmental issues between DOE, Ohio, Kentucky, and Tennessee, without additional agreements if certain specified topics were explored in detail in the EIS. TDEC's comments emphasized issues related to the transportation of the ETTP cylinders to Portsmouth. OHEPA's comment concurred in TDEC's comment that the EIS should coordinate environmental issues between DOE, Ohio, Kentucky, and Tennessee, especially emergency management issues associated with the transportation of the ETTP cylinders to Portsmouth.

NEPA Process

The EIS for the proposed project will be prepared pursuant to the NEPA of 1969 (42 U.S.C. 4321 et seq.), Council on Environmental Quality NEPA Regulations (40 CFR parts 1500-1508), and DOE's NEPA Implementing Procedures (10se CFR part 1021). Following the publication of this Notice of Intent, DOE will hold scoping meetings, prepare and distribute the draft EIS for public review, hold public hearings to solicit public comment on the draft EIS, and publish a final EIS. Not less than 30 days after the publication of the U.S. Environmental Protection Agency's Notice of Availability of the final EIS, DOE may issue a ROD documenting its decision concerning the proposed action.

In addition to the above steps, DOE is considering environmental factors in selecting a contractor for the conversion services through the procurement process, including preparation of an environmental critique and an environmental synopsis pursuant to 10 CFR 1021.216. The environmental critique evaluates the environmental data and information submitted by each offeror and is subject to the confidentiality requirements of the procurement process. DOE also is preparing a publicly available environmental synopsis, based on the environmental critique, to document the consideration given to environmental factors in the contractor selection process. The environmental synopsis will be filed with the U.S. Environmental Protection Agency and will be incorporated into the EIS. In accordance with 10 CFR 1021.216(i), since the NEPA process will not be completed prior to contract award, the contract will be structured to allow the NEPA review process to be completed in advance of a go/no-go decision.

Related NEPA Reviews

• Final Programmatic Environmental Impact Statement for Alternative Strategies for the Long-Term Management and Use of Depleted Uranium Hexafluoride (DOE/EIS-0269, April 1999);

• Final Waste Management Programmatic Environmental Impact Statement for Managing Treatment, Storage, and Disposal of Radioactive and Hazardous Waste (DOE/EIS-0200-F, May 1997);

• Disposition of Surplus Highly Enriched Uranium, Final Environmental Impact Statement (DOE/ EIS-0240, June 1996);

• Environmental Assessment for the Refurbishment of Uranium Hexafluoride Cylinder Storage Yards C-745-K, L, M, N, and P and Construction of a New Uranium Hexafluoride Cylinder Storage Yard (C-745-T) at the Paducah Gaseous Diffusion Plant, Paducah, Kentucky (DOE/EA-1118, July 1996);

• Environmental Assessment for DOE Sale of Surplus Natural and Low Enriched Uranium (DOE/EA-1172, October 1996);

• Environmental Assessment for the Lease of Land and Facilities within the East Tennessee Technology Park, Oak Ridge, Tennessee (DOE/EA-1175, 1997);

• Notice of Intent for Programmatic Environmental Impact Statement for Disposition of Scrap Metals (DOE/EIS-0327) (66 FR 36562, July 12, 2001).

Scoping Meetings

The purpose of this Notice is to encourage early public involvement in the EIS process and to solicit public comments on the proposed scope of the EIS, including the issues and alternatives it would analyze. DOE will hold public scoping meetings near Portsmouth, Ohio; Paducah, Kentucky; and Oak Ridge, Tennessee, to solicit both oral and written comments from interested parties. Oral and written comments will be considered equally in the preparation of the EIS. See DATES above for the times and locations of these meetings.

DOE will designate a presiding officer for the scoping meetings. The scoping meetings will not be conducted as evidentiary hearings, and there will be no questioning of the commentors. However, DOE personnel may ask for clarifications to ensure that they fully understand the comments and suggestions. The presiding officer will establish the order of speakers. At the opening of each meeting, the presiding officer will announce any additional procedures necessary for the conduct of the meetings. If necessary to ensure that all persons wishing to make a presentation are given the opportunity, a time limit may be applied for each speaker. Comment cards will also be available for those who would prefer to submit written comments.

DOE will make transcripts of the scoping meetings and other environmental and project-related materials available for public review in the following reading rooms:

DOE Headquarters, Freedom of Information Reading Room, 1000 Independence Avenue, SW, Room 1 E-190, Washington, DC 20585. Telephone: (202) 586-3142.

Oak Ridge/ DOE, Public Reading Room, 230 Warehouse Road, Suite 300, Oak Ridge, Tennessee 37831. Telephone: (865) 241-4780.

Paducah/DOE, Environmental Information Center, Berkley Centre, 115 Memorial Drive, Paducah, Kentucky 42001, Telephone: (270) 554-6979.

Portsmouth/DOE, Environmental Information Center, 3930 U.S. Route 23, Perimeter Road, Piketon, OH 45661. Telephone: (740) 289-3317.

Information is also available through the project web site at http://web.ead.anl.gov/uranium and on the DOE NEPA web site at http://www.tis.eh.doe.gov/nepa.

The EIS will also contain a section summarizing the nature of the comments received during the scoping process and describing any modification to the scope of the EIS in response to the scoping process comments.

EIS Schedule

The draft EIS is scheduled to be published by June 2002. A 45-day comment period on the draft EIS is planned, which will include public hearings to receive oral comments. Availability of the draft EIS, the dates of the public comment period, and information about the public hearings will be announced in the Federal Register and in the local news media.

The final EIS for the DUF6 Conversion Facilities is scheduled for January 2003. A ROD would be issued no sooner than 30 days after the U. S. Environmental Protection Agency notice of availability of the final EIS is published in the Federal Register.

Signed in Washington, DC, this 10th day of September, 2001.
Steven V. Cary,
Acting Assistant Secretary, Office of Environment, Safety and Health.

[FR Doc. 01-23213 Filed 9-17-01; 8:45 am]

BILLING CODE 6450-01-P